ENVIRONMENTAL PROTECTION AGENCY

[IL228-1; FRL-8245-4]

Notice of Prevention of Significant Deterioration Final Determination for Indeck Elwood, LLC

AGENCY: Environmental Protection Agency (EPA).

ACTION: Notice of final action.

SUMMARY: This notice announces that on September 27, 2006, the Environmental Appeals Board (EAB) of the EPA denied in part, and remanded in part, a petition for review of a federal Prevention of Significant Deterioration (PSD) permit issued to Indeck-Elwood, LLC by the Illinois Environmental Protection Agency (IEPA).

DATES: The effective date for the EAB's decision is September 27, 2006. Pursuant to Section 307(b)(1) of the Clean Air Act, 42 U.S.C. 7607(b)(1), judicial review of this permit decision, to the extent it is available, may be sought by filing a petition for review in the United States Court of Appeals for the Seventh Circuit within 60 days of January 22, 2007.

ADDRESSES: The documents relevant to the above action are available for public inspection during normal business hours at the following address: Environmental Protection Agency, Region 5, 77 West Jackson Boulevard (AR-18J), Chicago, Illinois 60604. To arrange viewing of these documents, call Constantine Blathras at (312) 886-0671.

FOR FURTHER INFORMATION CONTACT: Constantine Blathras, Air and Radiation Division, Air Programs Branch, Environmental Protection Agency, Region 5, 77 W. Jackson Boulevard (AR-18J), Chicago, Illinois 60604. Anyone who wishes to review the EAB decision can obtain it at http://www.epa.gov/eab/.

SUPPLEMENTARY INFORMATION:

Notification of EAB Final Decision

The IEPA, acting under authority of a PSD delegation agreement, issued a PSD permit to Indeck-Elwood, LLC on October 10, 2003, granting approval to construct a coal-fired steam electric generating station in Elwood, Will County, Illinois. The American Lung Association of Metropolitan Chicago, Citizens Against Ruining the Environment, the Clean Air Task Force, Lake County Conservation Alliance, and the Sierra Club filed a petition for review with the EAB on November 17, 2003. The EAB denied in part, and remanded in part, the petition on September 27, 2006. The EAB remands the permit on the following issues: The inclusion of Source-Wide Condition 9, which allows Indeck Elwood to construct a power plant with less capacity than addressed by the permit applicant; IEPA's soils and vegetation analysis; the permit's substitution of work and operational practices for Best Available Control Technology numeric limits during start-up, shut-down, and malfunction events; and the permit's particulate matter emissions limits and the absence of a limitation for condensable particulate matter. On all other issues, review is denied.

Dated: November 13, 2006.
Jo Lynn Traub,
Acting Regional Administrator, Region 5.

[FR Doc. E6-19785 Filed 11-21-06; 8:45 am]

BILLING CODE 6560-50-P